DEPARTMENT OF ENERGY

Federal Energy Regulatory Commission

Combined Notice of Filings #1

Take notice that the Commission received the following exempt wholesale generator filings:

Docket Numbers: EG13-4-000.

Applicants: Texas Dispatchable Wind 1, LLC.

Description: Self-Certification of Texas Dispatchable Wind 1, LLC.

Filed Date: 10/11/12.

Accession Number: 20121011-5210.

Comments Due: 5 p.m. ET 11/1/12.

Take notice that the Commission received the following electric rate filings:

Docket Numbers: ER13-74-000.

Applicants: PJM Interconnection, L.L.C.

Description: Notice of Cancellation of SA No. 3381 in Docket Nos. ER12-2442-000, et al to be effective 9/6/2012.

Filed Date: 10/11/12.

Accession Number: 20121011-5045.

Comments Due: 5 p.m. ET 11/1/12.

Docket Numbers: ER13-81-000.

Applicants: Frontier Utilities New York LLC.

Description: Baseline New to be effective 10/12/2012.

Filed Date: 10/11/12.

Accession Number: 20121011-5087.

Comments Due: 5 p.m. ET 11/1/12.

Docket Numbers: ER13-92-000.

Applicants: Wisconsin Power and Light Company.

Description: WPL's Changes in Depreciation Rates for Wholesale Production Service to be effective 1/1/2013.

Filed Date: 10/11/12.

Accession Number: 20121011-5126.

Comments Due: 5 p.m. ET 11/1/12.

Docket Numbers: ER13-98-000.

Applicants: Puget Sound Energy, Inc.

Description: PSE Rate Schedule CG-1 to be effective 12/31/9998.

Filed Date: 10/11/12.

Accession Number: 20121011-5146.

Comments Due: 5 p.m. ET 11/1/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 12, 2012.
Nathaniel J. Davis, Sr.,
Deputy Secretary.

[FR Doc. 2012-25885 Filed 10-19-12; 8:45 am]

BILLING CODE 6717-01-P